OFFICE OF MANAGEMENT AND BUDGET

Information Collection Activities Under OMB Review

AGENCY: Office of Management and Budget.

ACTION: Notice.

SUMMARY: In accordance with the Paperwork Reduction Act (44 U.S.C. 3501 et seq.), the Office of Management and Budget (OMB) invites the general public and Federal agencies to comment on the renewal without change of standard form LLL, Disclosure of Lobbying Activities. This form is required by 31 U.S.C. 1352.

DATES: Comments must be submitted on or before August 18, 2000. Late comments will be considered to the extent practicable.

ADDRESSES: Comments should be addressed to: F. James Charney, Policy Analyst, Office of Management and Budget, Room 6025, New Executive Office Building, Washington, DC 20503. Comments may be submitted via E-mail (grants@omb.eop.gov), but must be made in the text of the message and not as an attachment.

FOR FURTHER INFORMATION CONTACT: F. James Charney, Office of Federal Financial Management, Office of Management and Budget, (202) 395-3993. The standard form LLL can be downloaded from OMB's home page (http://www.whitehouse.gov/omb), under the heading “Grants Management.”

SUPPLEMENTARY INFORMATION: OMB Control No.: 0348-0046.

Title: Disclosure of Lobbying Activities.

Form No: SF-LLL.

Type of Review: Reinstatement, without change, of a previously approved collection for which approval has expired.

Respondents: States, Local Governments, Non-Profit organizations.

Number of Responses: 300.

Estimated Time Per Response: 10 minutes.

Needs and Uses: The SF-LLL is the standard disclosure reporting form for lobbying paid for with non-Federal funds, as required by the Byrd Amendment, as amended by the Lobbying Disclosure Act of 1995.

Joshua Gotbaum,
Executive Associate Director and Controller.

BILLING CODE 3110-01-P

[FR Doc. 00-15325 Filed 6-16-00; 8:45 am]

BILLING CODE 3110-01-C